DEPARTMENT OF TRANSPORTATION

Federal Aviation Administration

14 CFR Part 39

[Docket No. FAA-2024-2418; Project Identifier MCAI-2024-00239-T; Amendment 39-22943; AD 2025-02-10]

RIN 2120-AA64

Airworthiness Directives; ATR—GIE Avions de Transport Régional Airplanes

AGENCY: Federal Aviation Administration (FAA), DOT.

ACTION: Final rule.

SUMMARY: The FAA is adopting a new airworthiness directive (AD) for certain ATR—GIE Avions de Transport Régional Model ATR42 and ATR72 airplanes. This AD was prompted by a report that a flight deck emergency escape hatch was difficult to open due to the hose ends being connected to the hatch with incorrect parts and/or installed collars with a too-small diameter that would not permit the drain hose to slide inside. This AD requires inspection of the flight deck emergency escape hatch drain hose for discrepancies and applicable corrective actions, and prohibits accomplishment of maintenance actions using the instructions of certain maintenance tasks, as specified in a European Union Aviation Safety Agency (EASA) AD, which is incorporated by reference. The FAA is issuing this AD to address the unsafe condition on these products.

DATES: This AD is effective March 19, 2025.

The Director of the Federal Register approved the incorporation by reference of a certain publication listed in this AD as of March 19, 2025.

ADDRESSES:

AD Docket: You may examine the AD docket at regulations.gov under Docket No. FAA-2024-2418; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2418.

FOR FURTHER INFORMATION CONTACT: Shahram Daneshmandi, Aviation Safety Engineer, FAA, 1600 Stewart Avenue, Suite 410, Westbury, NY 11590; phone: 206-231-3220; email: Shahram.Daneshmandi@faa.gov.

SUPPLEMENTARY INFORMATION:

Background

The FAA issued a notice of proposed rulemaking (NPRM) to amend 14 CFR part 39 by adding an AD that would apply to certain ATR—GIE Avions de Transport Régional Model ATR42 and ATR72 airplanes. The NPRM published in the Federal Register on November 1, 2024 (89 FR 87314). The NPRM was prompted by AD 2024-0090, dated April 16, 2024, issued by EASA, which is the Technical Agent for the Member States of the European Union (EASA AD 2024-0090) (also referred to as the MCAI). The MCAI states that following a report that a flight deck emergency escape hatch was difficult to open, an ATR investigation revealed hatch drain hose ends connected to the hatch with incorrect parts (zip-tie and ty-rap) and installed collars with a too-small diameter that would not permit the drain hose to slide inside. These installation nonconformities could occur only during maintenance and could affect the hatch drainage and possibly result in difficulties in removing the hatch in case of an emergency evacuation. ATR has updated the maintenance procedures to clarify the correct procedures.

In the NPRM, the FAA proposed to require inspection of the flight deck emergency escape hatch drain hose for discrepancies and applicable corrective actions, and prohibit accomplishment of maintenance actions using the instructions of certain maintenance tasks, as specified in EASA AD 2024-0090. The FAA is issuing this AD to address these installation nonconformities, which could prevent flightcrew evacuation from the airplane in case of an emergency, possibly resulting in personal injury.

You may examine the MCAI in the AD docket at regulations.gov under Docket No. FAA-2024-2418.

Discussion of Final Airworthiness Directive

Comments

The FAA received comments from Air Line Pilots Association, International (ALPA) who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0090 specifies procedures for inspecting for discrepancies of the flight deck emergency escape hatch drain hose (including checking for the presence of a fastening system on the drain hoses at the level of the escape hatch drains and checking whether a drain hose slides freely in the clamp (collar)). Discrepancies include any zip-tie/ty-rap that is detected and any drain hose that does not slide freely in the clamp. Corrective actions include removing the fastening system and replacing the clamp. EASA AD 2024-0090 also prohibits accomplishment of maintenance actions using the instructions of Maintenance Procedure (MP) Tasks ATR-A-52-22-XX-00ZZZ-520Z-A and ATR-A-52-22-XX-00ZZZ-720Z-A issued December 31, 2023, or earlier. This material is reasonably available because the interested parties have access to it through their normal course of business or by the means identified in the ADDRESSES section.

Costs of Compliance

The FAA estimates that this AD affects 80 airplanes of U.S. registry. The FAA estimates the following costs to comply with this AD:

Estimated Costs for Required Actions
Labor cost | Parts cost | Cost per product | Cost on U.S. operators
0.25 work-hour × $85 per hour = $21.25 | $0 | $21.25 | $1,700

The FAA estimates the following costs to do any replacement that would be required based on the results of any required actions. The FAA has no way of determining the number of aircraft that might need this replacement:

Estimated Costs of On-Condition Actions
Labor cost | Parts cost | Cost per product
0.25 work-hour × $85 per hour = $21.25 | Minimal | $21.25

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-02-10 ATR—GIE Avions de Transport Régional: Amendment 39-22943; Docket No. FAA-2024-2418; Project Identifier MCAI-2024-00239-T.

(a) Effective Date

This airworthiness directive (AD) is effective March 19, 2025.

(b) Affected ADs

None.

(c) Applicability

This AD applies to the ATR—GIE Avions de Transport Régional airplanes, certificated in any category, specified in paragraphs (c)(1) and (2) of this AD and identified in European Union Aviation Safety Agency (EASA) AD 2024-0090, dated April 16, 2024 (EASA AD 2024-0090).

(1) Model ATR42-200, -300, -320, and -500 airplanes.

(2) Model ATR72-101, -102, -201, -202, -211, -212, and -212A airplanes.

(d) Subject

Air Transport Association (ATA) of America Code 52, Doors.

(e) Unsafe Condition

This AD was prompted by a report that a flight deck emergency escape hatch was difficult to open due to the hose ends being connected to the hatch with incorrect parts and/or installed collars with a too-small diameter that would not permit the drain hose to slide inside. The FAA is issuing this AD to address such installation nonconformities, which could affect drainage of the hatch. The unsafe condition, if not addressed, could prevent flightcrew evacuation in case of an emergency, possibly resulting in personal injury.

(f) Compliance

Comply with this AD within the compliance times specified, unless already done.

(g) Requirements

Except as specified in paragraphs (h) and (i) of this AD: Comply with all required actions and compliance times specified in, and in accordance with, EASA AD 2024-0090.

(h) Exceptions to EASA AD 2024-0090

(1) Where EASA AD 2024-0090 refers to its effective date, this AD requires using the effective date of this AD.

(2) This AD does not adopt the “Remarks” section of EASA AD 2024-0090.

(3) Where EASA AD 2024-0090 states “any discrepancy, as defined in the AOM, is detected” for this AD replace that text with “any fastening system (e.g., zip-tie/ty-rap) is detected or any drain hose does not slide freely in the clamp (collar).”

(i) No Reporting

Although the material referenced in EASA AD 2024-0090 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR—GIE Avions de Transport Régional's EASA Design Organization Approval (DOA). If approved by the DOA, the approval must include the DOA-authorized signature.

(k) Additional Information

For more information about this AD, contact Shahram Daneshmandi, Aviation Safety Engineer, FAA, 1600 Stewart Avenue, Suite 410, Westbury, NY 11590; telephone 206-231-3220; email: shahram.daneshmandi@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0090, dated April 16, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 23, 2025.
Steven W. Thompson,
Acting Deputy Director, Compliance & Airworthiness Division, Aircraft Certification Service.

[FR Doc. 2025-02492 Filed 2-11-25; 8:45 am]

BILLING CODE 4910-13-P